DEPARTMENT OF TRANSPORTATION

Federal Railroad Administration

[Docket Number FRA-2002-13251]

Petition for Extension of Waiver of Compliance

Under part 211 of title 49 Code of Federal Regulations (CFR), this document provides the public notice that on June 1, 2022, Arizona Eastern Railway Company (AZER) petitioned the Federal Railroad Administration (FRA) for an extension of a waiver of compliance from certain provisions of the Federal railroad safety regulations contained at 49 CFR part 232, Brake System Safety Standards for Freight and Other Non-passenger Trains and Equipment; End of Train Devices. The relevant FRA Docket Number is FRA-2002-13251.

Specifically, AZER seeks to extend relief that permits movement from the Freeport-McMoRan Copper & Gold's mining facility near Claypool, Arizona, to a location between mileposts (MPs) 1229.0 and 1227.6 on AZER trackage, where the required inspections (a pre-departure inspection and Class 1 initial terminal air brake test and inspection) are performed. Additionally, AZER seeks to extend relief formerly granted in FRA Docket Number FRA-2017-0100, which permits movement from Clifton Yard in Clifton, Arizona, to South Siding near MP 1210.0, where the required inspections are performed. FRA is combining the requests and relief from both dockets and considering them under the originally assigned docket number for the relief in Claypool, Arizona, Docket Number FRA-2002-13251. In support of its request, AZER states that railroad operations have remained the same since the original waivers were granted, and rail traffic volumes have continuously increased, supporting the need for this relief.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by August 29, 2022 will be considered by FRA before final action is taken. Comments received after that date will be considered if practicable.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2022-14855 Filed 7-12-22; 8:45 am]

BILLING CODE 4910-06-P